DEPARTMENT OF TRANSPORTATION

Federal Aviation Administration

14 CFR Part 39

[Docket No. FAA-2025-0333; Project Identifier MCAI-2020-01208-E; Amendment 39-22976; AD 2025-05-04]

RIN 2120-AA64

Airworthiness Directives; Rolls-Royce Deutschland Ltd & Co KG Engines

AGENCY: Federal Aviation Administration (FAA), DOT.

ACTION: Final rule; request for comments.

SUMMARY: The FAA is superseding Airworthiness Directive (AD) 2019-05-02, which applied to certain Rolls-Royce Deutschland Ltd & Co KG (RRD) (type certificate previously held by Rolls-Royce plc) Model RB211-Trent 970-84 and RB211-Trent 972-84 engines. AD 2019-05-02 required repetitive inspections of the drains mast for any crack and replacement or repair of the drains mast if necessary. Since the FAA issued AD 2019-05-02, the manufacturer has developed a modification (improved drains mast and drains support bracket), which the FAA has determined mitigates the unsafe condition. This AD was prompted by cracks found in the transition duct area of the drains mast. This AD requires modification with improved drains mast and drains support bracket. The FAA is issuing this AD to address the unsafe condition on these products.

DATES: This AD is effective April 1, 2025.

The Director of the Federal Register approved the incorporation by reference of a certain publication listed in this AD as of April 1, 2025.

The FAA must receive comments on this AD by May 1, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0333; or in person at Docket Operations between 9 a.m. and 5 p.m., Monday through Friday, except Federal holidays. The AD docket contains this final rule, the mandatory continuing airworthiness information (MCAI), any comments received, and other information. The street address for Docket Operations is listed above.

Material Incorporated by Reference:

• For RRD material identified in this AD, contact Rolls-Royce plc, Corporate Communications, P.O. Box 31, Derby, DE24 8BJ, United Kingdom; phone: +44 (0)1332 242424; fax: +44 (0)1332 249936; website: rolls-royce.com/contact-us.aspx.

• You may view this material at the FAA, Operational Safety Branch, 1200 District Avenue, Burlington, MA 01803. For information on the availability of this material at the FAA, call (817) 222-5110. It is also available at regulations.gov under Docket No. FAA-2025-0333.

FOR FURTHER INFORMATION CONTACT: Barbara Caufield, Aviation Safety Engineer, FAA, 2200 South 216th Street, Des Moines, WA 98198; phone: (781) 238-7146; email: barbara.caufield@faa.gov.

SUPPLEMENTARY INFORMATION:

Comments Invited

The FAA invites you to send any written data, views, or arguments about this final rule. Send your comments to an address listed under ADDRESSES. Include “Docket No. FAA-2025-0333; Project Identifier MCAI-2020-01208-E” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Barbara Caufield, Aviation Safety Engineer, FAA, 2200 South 216th Street, Des Moines, WA 98198. Any commentary that the FAA receives which is not specifically designated as CBI will be placed in the public docket for this rulemaking.

Background

The FAA issued AD 2019-05-02, Amendment 39-19584 (84 FR 8799, March 12, 2019) (AD 2019-05-02), to supersede AD 2017-22-13, Amendment 39-19093 (82 FR 51550, November 7, 2017) (AD 2017-22-13), which applied to RRD Model RB211-Trent 970-84 and RB211-Trent 972-84 engines.

AD 2017-22-13 was prompted by an MCAI originated by EASA, which is the Technical Agent for the Member States of the European Union. EASA issued EASA AD 2017-0075R1, dated May 5, 2017 (EASA AD 2017-0075R1) to correct an unsafe condition identified as cracks found in the transition duct area of the drains mast, which is part of the fire wall in Zone 1. Cracks were found on both pre-Mod 72-H499 drains masts, part number (P/N) FW29847, and post-Mod 72-H499 drains masts, P/N KH31996. AD 2017-22-13 required a visual inspection of the drains mast for any crack and replacement or repair of the drains mast if necessary.

AD 2019-05-02 was prompted EASA AD 2018-0185, dated August 29, 2018 (EASA AD 2018-0185) by in-service findings that resulted in the decision to expand the group of affected engines and the group of affected parts and consequently to require repetitive inspections and applicable corrective actions. AD 2019-05-02 required repetitive inspections of the drains mast for any crack and replacement or repair of the drains mast if necessary.

The FAA issued AD 2017-22-13 and AD 2019-05-02 to prevent failure of the drains mast which, if not addressed, could result in engine fire and damage to the airplane.

Actions Since AD 2019-05-02 Was Issued

Since the FAA issued AD 2019-05-02, Rolls-Royce developed a modification that introduced an improved breather drains mast assembly, and drains support bracket, featuring material and geometry changes. EASA then issued EASA AD 2019-0101, dated May 8, 2019 (EASA AD 2019-0101), which superseded and retained the requirements of EASA AD 2018-0185, and also required replacement of the affected parts by installing the modification (which terminated the repetitive inspections).

After EASA AD 2019-0101 was issued, further risk assessments were completed, and a determination was made that the compliance time for the modification can be extended by 23 months. Consequently, EASA issued EASA AD 2019-0101R1, dated August 20, 2020 (EASA AD 2019-0101R1) (also referred to as the MCAI). The MCAI states that occurrences were reported on in-service RB211 Trent 900 engines, where cracks were found in the transition duct area of the drains mast, which is part of the fire wall in Zone 1. This condition, if not corrected, could result in failure of the drains mast, possible engine fire, and damage to the airplane.

You may examine the MCAI in the AD docket at regulations.gov under Docket No. FAA-2025-0333.

Material Incorporated by Reference Under 1 CFR Part 51

The FAA reviewed the Rolls-Royce Alert Service Bulletin RB.211-72-AK047, Revision 2, dated August 17, 2020, which specifies procedures for modification of the engine with an improved drains mast and drains support bracket.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI and material referenced above. The FAA is issuing this AD after determining that the unsafe condition described previously is likely to exist or develop on other products of the same type design.

AD Requirements

This AD retains none of the requirements of AD 2019-05-02. This AD requires modification with improved drains mast and drains support bracket.

Differences Between This AD and the MCAI

EASA AD 2019-0101R1 specifies initial and repetitive visual inspections of the drains mast for any crack, replacement or repair of the drains mast if necessary, modification of the engine with improved drains mast and drains mast support bracket (which is terminating action), certain other modifications to be done concurrently with the modification, and parts installation provisions. However, this AD only requires modification of the engine with improved drains mast and drains mast support bracket, which corresponds with the modification specified in paragraph (5) of EASA AD 2019-0101R1.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA justifies waiving notice and comment prior to adoption of this rule because no domestic operators use this product. It is unlikely that the FAA will receive any adverse comments or useful information about this AD from any U.S. operator. Accordingly, notice and opportunity for prior public comment are unnecessary, pursuant to 5 U.S.C. 553(b). In addition, for the foregoing reason(s), the FAA finds that good cause exists pursuant to 5 U.S.C. 553(d) for making this amendment effective in less than 30 days.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

There are no costs of compliance with this AD because there are no engines with this type certificate on the U.S. Registry.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2019-05-02, Amendment 39-19584 (84 FR 8799, March 12, 2019); and

b. Adding the following new airworthiness directive:

2025-05-04 Rolls-Royce Deutschland Ltd & Co KG: Amendment 39-22976; Docket No. FAA-2025-0333; Project Identifier MCAI-2020-01208-E.

(a) Effective Date

This airworthiness directive (AD) is effective April 1, 2025.

(b) Affected ADs

This AD replaces AD 2019-05-02, Amendment 39-19584 (84 FR 8799, March 12, 2019) (AD 2019-05-02).

(c) Applicability

This AD applies to Rolls-Royce Deutschland Ltd & Co KG (type certificate previously held by Rolls-Royce plc) Model RB211-Trent 970-84 and RB211-Trent 972-84 engines with an installed drains mast, part number (P/N) KH31996 or FW29847, except those with Rolls-Royce modification 72-AK047 embodied in production.

(d) Subject

Joint Aircraft System Component (JASC) Code 7170, Engine Drains.

(e) Unsafe Condition

This AD was prompted by cracks found in the transition duct area of the drains mast. The FAA is issuing this AD to detect and correct cracks in the transition duct area of the drains mast. The unsafe condition, if not addressed, could result in engine fire and damage to the airplane.

(f) Compliance

Comply with this AD within the compliance times specified, unless already done.

(g) Required Actions

Within 24 months after the effective date of this AD, modify the engine in accordance with Rolls-Royce Alert Service Bulletin RB.211-72-AK047, Revision 2, dated August 17, 2020.

(h) Alternative Methods of Compliance (AMOCs)

(1) The Manager, AIR-520 Continued Operational Safety Branch, FAA, has the authority to approve AMOCs for this AD, if requested using the procedures found in 14 CFR 39.19. In accordance with 14 CFR 39.19, send your request to your principal inspector or local Flight Standards District Office, as appropriate. If sending information directly to the manager of the AIR-520 Continued Operational Safety Branch, send it to the attention of the person identified in paragraph (i) of this AD and email to: AMOC@faa.gov.

(2) Before using any approved AMOC, notify your appropriate principal inspector, or lacking a principal inspector, the manager of the local flight standards district office/certificate holding district office.

(i) Additional Information

For more information about this AD, contact Barbara Caufield, Aviation Safety Engineer, FAA, 2200 South 216th Street, Des Moines, WA 98198; phone: (781) 238-7146; email: barbara.caufield@faa.gov.

(j) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Rolls-Royce Alert Service Bulletin RB.211-72-AK047, Revision 2, dated August 17, 2020.

(ii) [Reserved]

(3) For Rolls-Royce Deutschland Ltd & Co KG material identified in this AD, contact Rolls-Royce plc, Corporate Communications, P.O. Box 31, Derby, DE24 8BJ, United Kingdom; phone: +44 (0)1332 242424; fax: +44 (0)1332 249936; website: rolls-royce.com/contact-us.aspx.

(4) You may view this material at the FAA, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on March 11, 2025.
Peter A. White,
Deputy Director, Integrated Certificate Management Division, Aircraft Certification Service.

[FR Doc. 2025-04214 Filed 3-14-25; 8:45 am]

BILLING CODE 4910-13-P